DEPARTMENT OF LABOR

Re-Establishment of the Advisory Committee on Veterans' Employment, Training and Employer Outreach (ACVETEO)

AGENCY: Veterans' Employment and Training Service, Labor.

ACTION: Notice.

SUMMARY: The Advisory Committee on Veterans' Employment, Training, and Employer Outreach (ACVETEO) was reestablished on March 30, 2011 as a federal advisory committee within the Department of Labor.

The ACVETEO's authorizing legislation is codified at 38 U.S.C. 4110. It is established in accordance with the Federal Advisory Committee Act (FACA), 5 U.S.C. App. 2, as amended.

The ACVETEO is responsible for assessing employment and training needs of Veterans and their integration into the workforce; determining the extent to which the programs and activities of the Department of Labor (DOL) are meeting such needs; assisting the Assistant Secretary of Veterans' Employment and Training (ASVET) in outreach to employers regarding training and skills of Veterans and advantages afforded employers by hiring Veterans; making recommendations to the Secretary of Labor, through the ASVET, with respect for outreach activities and the employment and training of Veterans; and carrying out such other activities necessary to making required reports and recommendations. The statute requires the ACVETEO to meet at least quarterly and to submit an annual report by December 31 of each year on the prior year's activities to the Secretary and the Committees on Veterans' Affairs of the House of Representatives and the Senate.

SUPPLEMENTARY INFORMATION: As established by statute, the membership of the ACVETEO must consist of at least 12, but no more than 16, individuals appointed by the Secretary of Labor:

• Seven individuals, one each from among representatives nominated by each of the following service organizations: the Society for Human Resource Management, the Business Roundtable, the National Association of State Workforce Agencies, the United States Chamber of Commerce, the National Federation of Independent Business, a nationally recognized labor union or organization, and the National Governors Association.

• Not more than five individuals from among representatives nominated by veterans' service organizations that have a national employment program.

• No more than five individuals who are recognized authorities in the fields of business, employment, training, rehabilitation, or labor and who are not employees of the Department of Labor.

In addition, the following, or their representatives, are ex-officio, non-voting members: Secretaries of Veterans Affairs and Defense; Director of the Office of Personnel Management; Assistant Secretary of Labor for Veterans' Employment and Training; the Assistant Secretary of Labor for Employment and Training; and the Administrator of the Small Business Administration.

The ACVETEO is a non-discretionary advisory committee required by law and provides valuable advice to the Secretary of Labor. Therefore, the Department has determined that it is necessary and in the public interest to reestablish the committee.

FOR FURTHER INFORMATION CONTACT: The Veterans' Employment and Training Service (VETS) is responsible for providing the necessary support for the ACVETEO. The Director, Strategic Outreach and Legislative Affairs within VETS will serve as the Designated Federal Official (DFO). Individuals requesting further information should contact Nancy Hogan, Designated Federal Official, at (202) 693-4700.

Signed in Washington, DC, this 7th day of June 2011.
John McWilliam,
Deputy Assistant Secretary. Veterans' Employment and Training Service.

[FR Doc. 2011-14579 Filed 6-10-11; 8:45 am]

BILLING CODE 4510- 79-P